DEPARTMENT OF DEFENSE

Defense Acquisition Regulations System

48 CFR Parts 212, 225, and 252

RIN 0750-AF25

Defense Federal Acquisition Regulation Supplement; Contractor Personnel Authorized To Accompany U.S. Armed Forces (DFARS Case 2005-D013)

AGENCY: Defense Acquisition Regulations System, Department of Defense (DoD).

ACTION: Interim rule; extension of comment period.

SUMMARY: DoD is extending the comment period for the interim rule published at 71 FR 34826 on June 16, 2006. The interim rule implements DoD policy regarding contractor personnel authorized to accompany U.S. Armed Forces deployed outside the United States. The comment period is extended to accommodate significant interest expressed with regard to the interim rule.

DATES: The ending date for submission of comments is extended to September 18, 2006.

FOR FURTHER INFORMATION CONTACT: Ms. Amy Williams, Defense Acquisition Regulations System, OUSD(AT&L)DPAP(DARS), IMD 3C132, 3062 Defense Pentagon, Washington, DC 20301-3062. Telephone (703) 602-0328; facsimile (703) 602-0350. Please cite DFARS Case 2005-D013.

Michele P. Peterson,
Editor, Defense Acquisition Regulations System.

[FR Doc. E6-13280 Filed 8-11-06; 8:45 am]

BILLING CODE 5001-08-P